DEPARTMENT OF COMMERCE

International Trade Administration

[C-570-913]

Certain New Pneumatic Off-the-Road Tires From the People's Republic of China: Rescission of Countervailing Duty Administrative Review; 2012

AGENCY: Enforcement and Compliance, formerly Import Administration, International Trade Administration, Department of Commerce.

DATES: Effective Date: January 17, 2014.

FOR FURTHER INFORMATION CONTACT: David Lindgren, Enforcement and Compliance, AD/CVD Operations, Office VII, International Trade Administration, U.S. Department of Commerce, 14th Street and Constitution Avenue NW., Washington, DC 20230; telephone: (202) 482-3870.

Background

On September 3, 2013, the Department of Commerce (Department) published a notice of opportunity to request an administrative review of the countervailing duty (CVD) order on certain new pneumatic off-the-road tires (OTR Tires) from the People's Republic of China (PRC) covering the period January 1, 2012 through December 31, 2013.¹ The Department received a timely request from Guizhou Tyre Co. Ltd. (GTC) for a CVD administrative review of itself.² No other interested party submitted a request for review. On November 8, 2013, the Department published a notice of initiation of an administrative review of the CVD order on OTR Tires from the PRC with respect to GTC.³ On December 30, 2013, GTC timely withdrew its request for a review.⁴

¹ See Antidumping or Countervailing Duty Order, Finding, or Suspended Investigation; Opportunity To Request Administrative Review, 78 FR 54235 (September 3, 2013).

² See Letter to the Department from GTC regarding “Request for Administrative Review: Countervailing Duty Order on Certain New Pneumatic Off-The-Road Tires from the People's Republic of China (Case No: C-570-913) (POR: January 1, 2012-December 31, 2012),” dated September 30, 2013.

³ See Initiation of Antidumping and Countervailing Duty Administrative Reviews and Requests for Revocation in Part, 78 FR 67104 (November 8, 2013).

⁴ See Letter to the Department from GTC regarding “GTC Withdrawal of Review Request: Countervailing Duty Order on Certain New Pneumatic Off-The-Road Tires from the People's Republic of China (Case No: C-570-913) (POR: January 1, 2012-December 31, 2012),” dated December 30, 2013.

Rescission of Review

Pursuant to 19 CFR 351.213(d)(1), the Department will rescind an administrative review, in whole or in part, if a party that requested the review withdraws the request within 90 days of the date of publication of the notice of initiation of the requested review. GTC timely submitted a withdrawal request within the 90-day period (i.e., before February 6, 2014). Because the review request filed by GTC was the only request filed, we are rescinding this administrative review of the CVD order on OTR Tires from the PRC, consistent with 19 CFR 351.213(d)(1).

Assessment

The Department will instruct U.S. Customs and Border Protection (CBP) to assess CVDs on all appropriate entries. GTC shall be assessed CVDs at rates equal to the cash deposit of estimated CVDs required at the time of entry, or withdrawal from warehouse, for consumption, during the period January 1, 2012, through December 31, 2013, in accordance with 19 CFR 351.212(c)(1)(i). The Department intends to issue appropriate assessment instructions to CBP 15 days after publication of this notice.

Notification Regarding Administrative Protective Orders

This notice also serves as a reminder to parties subject to the administrative protective order (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: January 13, 2014.
Christian Marsh,
Deputy Assistant Secretary for Antidumping and Countervailing Duty Operations.

[FR Doc. 2014-00908 Filed 1-16-14; 8:45 am]

BILLING CODE 3510-DS-P